DEPARTMENT OF AGRICULTURE

Office of the Secretary

7 CFR Part 2

Delegation of Authority to Under Secretary for Research, Education, and Economics

AGENCY: Office of the Secretary, USDA.

ACTION: Final rule.

SUMMARY: This rule reaffirms the delegation of authority from the Secretary of Agriculture to the Under Secretary for Research, Education, and Economics for requests for the United States Department of Agriculture Interested Government Agency (IGA) support for waivers of the Immigration and Nationality Act (INA).

DATES: Effective Date: February 22, 2011.

FOR FURTHER INFORMATION CONTACT: Jason Groves, Foreign Visitor Specialist, Agricultural Research Service, United States Department of Agriculture, Beltsville, MD 20705, (301) 504-4832.

SUPPLEMENTARY INFORMATION: The INA (Title 8 of the U.S. Code) provides foreign nationals an opportunity to participate in exchange programs in the United States under provisions of the Mutual Educational and Cultural Exchange Act (also known as the Fulbright-Hays Act) of 1961. At the conclusion of their program, an exchange program participant is expected to return to their home country to utilize the experiences and skills they acquired while in the U.S. INA Section 212(e) requires 2 years of foreign residence for individuals whose participation was financed by the U.S. Government, or by the government of their nationality or legal residence. Individuals admitted to the United States who possessed or intended to acquire specialized knowledge or skills that the Secretary of State has deemed necessary for the development of their country of citizenship or legal residence will also be subject to this 2-year requirement. A foreign national is ineligible for adjustment to permanent resident status, immigration to the United States, or receipt of an employment-based non-immigrant visa until the requirement has been satisfied.

The Secretary of the Department of Homeland Security may waive the 2-year foreign residence requirement with a favorable recommendation from the Secretary of State and pursuant to a request from an interested U.S. Government agency on behalf of foreign nationals actively and substantially involved in a program or activity sponsored by or of interest to such agency. In accordance with 22 CFR 41.63(c)(2)(3), the head of the agency or their designee shall submit a request in writing which fully explains why the granting of a waiver would be in the public interest and the detrimental effect that would result to the program or activity of interest to the requesting agency if the exchange visitor were unable to continue his/her involvement.

The Secretary of Agriculture has designated the Under Secretary for Research, Education, and Economics as USDA's authorized signatory for requests for all 2-year foreign residence waivers. Pursuant to 5 U.S.C. 553, notice of proposed rulemaking and opportunity for comment are not required, and this rule may be made effective less than 30 days after publication in the Federal Register. Further, since this rule relates to internal agency management, it is exempt from the provisions of Executive Order No. 12291. Finally, this action is not a rule as defined by Public Law 96-354, the Regulatory Flexibility Act and thus is exempt from the provisions of that Act.

List of Subjects in 7 CFR Part 2

Authority delegations (Government agencies).

Accordingly, the Department of Agriculture amends 7 CFR part 2 as follows:

PART 2—DELEGATIONS OF AUTHORITY BY THE SECRETARY OF AGRICULTURE AND GENERAL OFFICERS OF THE DEPARTMENT

1. The authority citation for part 2 is revised to read as follows:

Authority: 5 U.S.C. 301 and Reorganization Plan No. 2 of 1953.

2. In § 2.21, paragraph (a)(9) is revised to read as follows:

§ 2.21 Under Secretary for Research, Education, and Economics.

(a) * * *

(9) Related to immigration. Serve as the designee of the Secretary pursuant to Section 212(e) of the Immigration and Nationality Act, as amended, 8 U.S.C. 1182(e) and 22 CFR 41.63(2)(3).

* * * * *

Signed at Washington, DC, on January 6, 2011.
Thomas J. Vilsack,
Secretary of Agriculture.

[FR Doc. 2011-1819 Filed 2-18-11; 8:45 am]

BILLING CODE 3410-01-P